DEPARTMENT OF HEALTH AND HUMAN SERVICES

National Institutes of Health

Office of Dietary Supplements 2015-2020 Strategic Plan Request for Comments

SUMMARY: The Office of Dietary Supplements (ODS) at the National Institutes of Health (NIH) has initiated a strategic planning process that will culminate in the ODS Strategic Plan for 2015-2020. To assist with this process, the ODS requests input from research communities—academic, government, and industry—and from other interested parties.

DATES: In order to ensure full consideration, all responses must be submitted by midnight, March 6, 2015.

ADDRESSES: Interested individuals and organizations should submit their responses to ODSplan@od.nih.gov.

FOR FURTHER INFORMATION CONTACT: Anne L. Thurn, Ph.D., Office of Dietary Supplements, National Institutes of Health, 6100 Executive Boulevard, Room 3B01, Bethesda, MD 20892-7517, Phone: 301-435-2920, Fax: 301-480-1845, Email: ODSplan@od.nih.gov.

SUPPLEMENTARY INFORMATION: The overall purpose of the strategic planning effort is to identify both new opportunities and emerging needs for incorporation in the programmatic efforts of the Office. A background paper, ODS Strategic Plan 2010-2014 Progress Report, summarizes progress in five key areas of ODS activities. The background paper and related information are available on the ODS Web site at http://ods.od.nih.gov/strategicplan.

Guidance is being requested from all interested parties on these important issues.

• Are the current strategic goals adequate?

• Is ODS meeting its stakeholders' needs?

• In the future, should some of ODS's current programs or activities be given higher (or lower) priority?

• How can ODS more effectively provide useful information to the ODS user community, including consumers, investigators, practitioners, industry, media, policy makers, government, and other interested parties?

Dated: January 30, 2015.
Lawrence A. Tabak,
Deputy Director, National Institutes of Health.

[FR Doc. 2015-02370 Filed 2-5-15; 8:45 am]

BILLING CODE 4140-01-P